DEPARTMENT OF TRANSPORTATION

Great Lakes St. Lawrence Seaway Development Corporation Public Meeting

AGENCY: Great Lakes St. Lawrence Seaway Development Corporation, DOT.

ACTION: Notice of public meeting.

SUMMARY: This notice announces the public meeting of the Great Lakes St. Lawrence Seaway Development Corporation Advisory Board.

DATES: The public meeting will be held on:

• Wednesday, March 6, 2025, from 2 p.m.-4 p.m. EDT.

○ Requests to attend the meeting must be received by March 1, 2025.

○ Requests for accommodations to a disability must be received by March 1, 2025.

○ If you wish to speak during the meeting, you must submit a written copy of your remarks to GLS by March 1, 2025.

○ Requests to submit written materials to be reviewed during the meeting must be received by the GLS no later than March 1, 2025.

ADDRESSES: The meeting will be held in-person at the following location: GLS Conference Room, Department of Transportation, 1200 New Jersey Avenue, Suite W62-300, Washington, DC 20590. A virtual option will be made available for individuals wishing to attend remotely. Details on how to participate will be forwarded to those who RSVP.

FOR FURTHER INFORMATION CONTACT: Kevin O'Malley, Strategic Advisor for Financial and Resource Management, Great Lakes St. Lawrence Seaway Development Corporation, 1200 New Jersey Avenue SE, Suite W62-300, Washington, DC 20590; (202) 366-0091.

SUPPLEMENTARY INFORMATION: Pursuant to Section 10(a)(2) of the Federal Advisory Committee Act (Pub. L. 92-463; 5 U.S.C. App. 2), notice is hereby given of meetings of the GLS Advisory Board. The agenda for each meeting is the same and will be as follows:

1. Opening Remarks

2. Consideration of Minutes of Past Meeting

3. Quarterly Report

4. Old and New Business

5. Closing Discussion

6. Adjournment

Public Participation

Attendance at the meeting is open to the interested public. With the approval of the Administrator, members of the public may present oral statements at the meeting. Persons wishing further information should contact the person listed under the heading, FOR FURTHER INFORMATION CONTACT. There will be three (3) minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the GLS will conduct a lottery to determine the speakers. Speakers are requested to submit a written copy of their prepared remarks for inclusion in the meeting records and for circulation to GLS Advisory Board members. All prepared remarks submitted will be accepted and considered as part of the meeting's record. Any member of the public may submit a written statement after the meeting deadline, and it will be presented to the committee.

The U.S. Department of Transportation is committed to providing equal access to this meeting for all participants. If you need alternative formats or services because of a disability, such as sign language, interpretation, or other ancillary aids, please contact the person listed in the FOR FURTHER INFORMATION CONTACT section. Any member of the public may present a written statement to the Advisory Board at any time.

Dated: January 28, 2025.
Carrie Lavigne,
Chief Counsel.

[FR Doc. 2025-02020 Filed 1-30-25; 8:45 am]

BILLING CODE 4910-61-P